DEPARTMENT OF LABOR

Employment and Training Administration

[TA-W-65,410]

Century Aluminum of West Virginia, Inc., Ravenswood, WV; Notice of Termination of Investigation

Pursuant to Section 221 of the Trade Act of 1974, as amended, an investigation was initiated on February 26, 2009 in response to a worker petition filed by the United Steelworkers of America, Local 5668, on behalf of workers of Century Aluminum of West Virginia, Inc., Ravenswood, West Virginia.

The petitioner has requested that the petition be withdrawn. Consequently, the investigation has been terminated.

Signed at Washington, DC, this 13th day of March 2009.
Richard Church,
Certifying Officer, Division of Trade Adjustment Assistance.

[FR Doc. E9-6307 Filed 3-23-09; 8:45 am]

BILLING CODE 4510-FN-P